DEPARTMENT OF HOMELAND SECURITY

Coast Guard

33 CFR Part 117

[Docket No. USCG-2016-0040]

Drawbridge Operation Regulation; Inner Harbor Navigation Canal, New Orleans, LA

AGENCY: Coast Guard, DHS.

ACTION: Notice of deviation from drawbridge regulation.

SUMMARY: The Coast Guard has issued a deviation from the operating schedule that governs the Senator Ted Hickey (Leon C. Simon Blvd./Seabrook) bascule bridge across the Inner Harbor Navigation Canal, mile 4.6, at New Orleans, Louisiana. This deviation is necessary to accommodate the rescheduling of the New Orleans Endurance Festival event. This deviation allows the bridge to remain closed to navigation during the event.

DATES: This deviation is effective from 7 a.m. through 2 p.m. on May 28, 2016.

ADDRESSES: The docket for this deviation, [USCG-2016-0040] is available at http://www.regulations.gov.

FOR FURTHER INFORMATION CONTACT: If you have questions on this temporary deviation, call or email Geri Robinson, Bridge Administration Branch, Coast Guard, telephone (504) 671-2128, email geri.a.robinson@uscg.mil.

SUPPLEMENTARY INFORMATION: On February 1, 2016, a United States Coast Guard notice of temporary deviation from drawbridge regulations under the same docket number, USCG-2016-0040, was published in the Federal Register [81 FR 5039]. That temporary deviation resulted from a request made by Premier Event Management, through the Louisiana Department of Transportation and Development (LDOTD), for a deviation from the operating schedule of the Senator Ted Hickey (Leon C. Simon Blvd./Seabrook) bascule bridge across the Inner Harbor Navigation Canal, mile 4.6, at New Orleans, Louisiana. The deviation was requested to accommodate the New Orleans Endurance Festival event, which includes a triathlon, originally scheduled to be held on April 3, 2016. Due to colder than normal weather, the New Orleans Endurance Festival was postponed until May 28, 2016. Therefore, through this document, the Coast Guard issues a temporary deviation for the rescheduled date.

The vertical clearance of the bascule span bridge is 46 feet above mean high water in the closed-to-navigation position and unlimited in the open-to-navigation position. The bridge is governed by 33 CFR 117.458(c).

This deviation is effective on May 28, 2016, from 7 a.m. through 2 p.m. This deviation allows the bridge to remain closed to navigation for seven (7) hours on the day of the event.

Navigation on the waterway consists of small tugs with and without tows, commercial vessels, and recreational craft, including sailboats.

Vessels able to pass through the bridge in the closed-to-navigation position may do so at anytime. The bridge will be able to open for emergencies, and there is no immediate alternate route. The Coast Guard will also inform the users of the waterways through our Local and Broadcast Notices to Mariners of the change in operating schedule for the bridge to minimize any impact caused by the temporary deviation.

In accordance with 33 CFR 117.35(e), the drawbridge must return to its regular operating schedule immediately at the end of the effective period of this temporary deviation. This deviation from the operating regulations is authorized under 33 CFR 117.35.

Dated: March 30, 2016.
Eric Washburn,
Bridge Administrator, Eighth Coast Guard District.

[FR Doc. 2016-07702 Filed 4-4-16; 8:45 am]

BILLING CODE 9110-04-P